Presidential Determination No. 2025-14 of September 30, 2025

Presidential Determination on Transferring the United States Program of Initial Refugee Resettlement

Memorandum for the Secretary of State [and] the Secretary of Health and Human Services

By the authority vested in me as President by the Constitution and the laws of the United States of America, including section 412(b)(1) of the Immigration and Nationality Act (8 U.S.C. 1522(b)(1)), it is hereby ordered:

Refugee resettlement must be conducted in a manner that serves the national interest, promotes efficient use of taxpayer dollars, protects the integrity of the United States immigration system, and supports refugees in achieving early economic self-sufficiency and assimilation into American society. Centralizing the responsibilities for all domestic resettlement under one executive department or agency (agency) eliminates unnecessary duplication and ensures that refugee resettlement is closely coordinated with State and local jurisdictions, to the extent permitted by law and as practicable.

I have determined that the administration of the program of initial resettlement grants and contracts, which are awarded to public or private nonprofit agencies for initial resettlement services for refugees coming to the United States, shall be transferred to the Department of Health and Human Services, Office of Refugee Resettlement.

This action reflects a return to the clear statutory structure originally established by the Refugee Act of 1980, which designated the Office of Refugee Resettlement as the lead Federal entity for domestic refugee resettlement. The transfer ensures better alignment of resources, oversight, and accountability resettlement activities that take place entirely within the United States.

I direct the Department of State and the Department of Health and Human Services to coordinate the orderly transfer of responsibilities, personnel, and sources necessary to implement this determination consistent with applicable law.

The Secretary of State is authorized and directed to publish this determination in the Federal Register.

THE WHITE HOUSE,

Washington, September 30, 2025

[FR Doc. 2025-19753

Filed 10-30-25; 11:15 am]

Billing code 4710-10-P